DEPARTMENT OF TRANSPORTATION

Pipeline and Hazardous Materials Safety Administration

[Docket No. PHMSA-2006-25803; Notice 1]

Pipeline Safety: Request for Waiver; Kinder Morgan Louisiana Pipeline, L.L.C.

AGENCY: Pipeline and Hazardous Materials Safety Administration (PHMSA); DOT.

ACTION: Notice of Intent to Consider Waiver Requests.

SUMMARY: Kinder Morgan Louisiana Pipeline L.L.C. (KMLP) requests a waiver to use a 0.80 design factor in the steel pipe design formula for Class 1 locations on Leg 1 of its proposed natural gas interstate Kinder Morgan Louisiana Pipeline. The waiver will allow KMLP to design, construct and operate Leg 1 of its pipeline at hoop stresses up to 80 percent of the specified minimum yield strength (SMYS) in Class 1 locations. KMLP seeks relief from the related capacity design requirements for pressure relieving and pressure limiting stations on the same segment of the proposed pipeline.

DATES: Persons interested in submitting comments regarding this waiver request must do so by December 22, 2006.

ADDRESSES: Comments should reference Docket No. PHMSA-2006-25803 and may be submitted in the following ways:

• The DOT Web site: http://dms.dot.gov. To submit comments on the DOT electronic docket site, click “Comments/Submissions,” click “Continue,” fill in the requested information, click “Continue,”enter your comment, then click “Submit.”

• Fax: 202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web site: http://www.regulations.gov. This site allows the public to enter comments on any Federal Register notice issued by any agency.

Instructions for submitting comments: You should identify the docket number (PHMSA-2006-25803) at the beginning of your comments. If you submit your comments by mail, please submit two copies. If you wish to receive confirmation that PHMSA received your comments, please include a self-addressed stamped postcard. Internet users may submit comments at http://www.regulations.gov, and may access all comments received by DOT at http://dms.dot.gov by performing a simple search for the docket number.

Note: All comments will be posted without changes or edits to http://dms.dot.gov, including any personal information provided.

Privacy Act Statement: Anyone may search the electronic form of all comments received for any of our dockets. You may review DOT's complete Privacy Act Statement in the Federal Register published on April 11, 2000 (65 FR 19477) or you may visit http://dms.dot.gov.

FOR FURTHER INFORMATION CONTACT: Alan Mayberry by telephone at (202) 366-5124; by fax at (202) 366-4566; by mail at DOT, Pipeline and Hazardous Materials Safety Administration, Pipeline Safety Program, 400 Seventh Street, SW., Room 2103, Washington, DC 20590; or by e-mail at alan.mayberry@dot.gov.

SUPPLEMENTARY INFORMATION:

Background

Kinder Morgan Louisiana Pipeline L.L.C. (KMLP) requests a waiver of compliance from certain regulatory requirements in 49 CFR 192.111 and 192.201 for Class 1 locations on Leg 1 only of its proposed natural gas interstate pipeline. KMLP specifically requests a waiver to allow the use of a 0.80 design factor in the steel pipe design formula in § 192.105 in lieu of the design factor of 0.72 specified § 192.111 for Class 1 locations. The waiver will allow KMLP to design, construct and operate Leg 1 of its pipeline at hoop stresses up to 80 percent of the specified minimum yield strength (SMYS) in Class 1 locations. KMLP neither seeks a waiver from any other design factors, nor for any other segments of its pipeline.

A waiver allowing an increase of the design factor from 0.72 to 0.80 in the steel pipe design formula in § 192.105 requires a modification in the required design capacities of pressure relieving and limiting stations installed to protect the pipeline. Therefore, KMLP also requests a waiver of § 192.201(a)(2)(i), which prescribes the design capacity requirements for pressure relieving and limiting stations on pipelines with a maximum allowable operating pressure (MAOP) of 60 pounds per square inch gauge (psig) or more. KMLP specifically wants to design the pressure relieving and pressure limiting stations on Leg 1 of its pipeline such that the maximum pressure will not exceed the MAOP plus 4 percent or the pressure that produces a hoop stress of 83 percent of SMYS, whichever is lower.

System Description

KMLP plans to construct and operate its pipeline to deliver approximately 3,395,000 Dekatherms per day (Dth/d) of regasified liquefied natural gas (LNG) from the Sabine Pass LNG terminal (currently under development) in Cameron Parish, Louisiana (LA), to markets in the eastern half of the United States. The pipeline will consist of two legs and two laterals. The pressure to operate the pipeline will be supplied by the LNG terminal so the proposed project does not include the construction of compressor stations.

Four major segments comprise the KMLP pipeline project as follows:

• Leg 1 is a 137-mile, 42-inch diameter, pipeline running northeasterly from within the LNG terminal in Cameron Parish, LA, to an interconnection with a Columbia Gulf Transmission Company pipeline in Evangeline Parish, LA. Along this route, the pipeline connects to ten or more interstate and intrastate transmission pipelines and has a peak day capacity of approximately 2,130,000 Dth/d. This is the only leg of the pipeline to which the waiver will apply.

• Leg 2, is a 1-mile, 36-inch diameter pipeline, running northerly from the LNG terminal to an interconnection with a Natural Gas Pipeline Company of America (NGPL) pipeline, located approximately 0.41 miles north of the terminal. This leg is entirely within Cameron Parish, LA.

• The Florida Gas Transmission (FGT) lateral is 2.2-mile, 24-inch diameter, lateral pipeline extending from Leg 1 to an existing compressor station owned by FGT in Acadia Parish, LA.

• The Bi-Directional Tie-in line is an interconnection between Leg 1 and Leg 2. The tie-in allows Leg 1 to receive gas from NGPL when not receiving gas from the LNG terminal.

Pipeline Design, Specifications and Quality Control

KMLP's waiver petition describes various qualitative characteristics of its proposed pipeline system and it believes the proposed pipeline system meets and/or exceeds current PHMSA pipeline safety regulations. KMLP plans to design and construct the pipeline using steel pipe that conforms to Kinder Morgan's Material Standard M8270. KMLP also states that the Class 1 location line pipe for its proposed pipeline conforms to American Petroleum Institute's (API) 5L Grade X80 and X70 longitudinal or helical seam submerged are welded pipe. This specific pipe is externally coated with plan fusion bonded epoxy (FBE) as specified in Kinder Morgan's Engineering Standard (M8370).

In its waiver request, KMLP states all pipeline welds will undergo nondestructive testing during construction. Crews will repair or remove and replace any weld imperfections discovered during testing that do not meet the pipeline safety regulations. To help and inspect the pipeline, KMLP will install pig launchers and receivers designed to allow the use of inline inspection (ILI) tools. KMLP will survey the pipeline with a multi-channel geometry ILI “smart” tool capable of detecting anomalies (including dents and buckles) before commissioning the pipeline for nature gas service. KMLP will also conduct a hydrostatic test of the pipeline to no less than 100 percent of SMYS before the pipeline is placed into service.

Risk Analysis

KMLP stated it conducted a risk analysis for the pipeline project using a proprietary risk assessment program to compare the risks associated with using a 0.80 design criteria for a Class 1 location pipeline with the risks associated with the 0.72 design criteria required by § 192.111. The analysis determined there was no significant increase in the risk associated with using the 0.80 design criteria for this pipeline design and location. The risk analysis considered the following nine risk areas: (1) Stress corrosion cracking, (2) manufacturing defects, (3) weather/outside factors, (4) welding and fabrication defects, (5) equipment failure, (6) equipment impact (third party damage), (7) external corrosion, (8) external corrosion and (9) incorrect operation. For the first five of these risk areas, the analysis showed zero or a negligible increase in the risk of failure between 0.70 and 0.80 design factor pipelines.

Though KMLP's risk analysis did not show a significant risk increase, it did find a slightly higher degree of risk in the areas of external and internal corrosion when using a 0.80 design factor as compared to a 0.72 design factor. KMLP attributes this to the thinner pipe wall designed using a 0.80 design factor as compared to a pipe wall using a 0.72 design factor. Additionally, the risk analysis shows a slightly higher risk for incorrect operation because a pipe designed with a 0.80 design factor operates a higher stress levels and with a smaller margin between MAOP and SMYS. KMLP plans to employ several control and prevention programs to mitigate these slightly higher risks,

PHMSA will consider a KMLP's waiver request and whether its proposal will yield an equivalent or greater degree of safety than currently provided by the regulations. After considering any comments received, PHMSA may grant a waiver to KMLP as proposed, with modifications and conditions, or deny the request. If PHMSA grants a waiver and subsequently determines the effects of the waiver are inconsistent with pipeline safety, PHMSA reserves the right to revoke the waiver at any time.

Authority: 49 U.S.C. 60118(c) and 49 CFR 1.53.

Issued in Washington, DC on November 16, 2006.
Theodore L. Willke,
Acting Associate Administrator for Pipeline Safety.

[FR Doc. 06-9355 Filed 11-17-06; 3:36 pm]

BILLING CODE 4910-60-M